DEPARTMENT OF AGRICULTURE

Forest Service

Forestry Research Advisory Council

AGENCY: Forest Service, USDA.

ACTION: Notice of meeting.

SUMMARY: The Forestry Research Advisory Council will meet in Washington, DC September 8-9, 2010. The purpose of the meeting is to discuss emerging issues in forestry research.

DATES: The meeting will be held September 8-9, 2010. On September 8 the meeting will be from 8:30 a.m. to 5 p.m., and on September 9 from 8:30-noon.

ADDRESSES: The meeting will be held in Room 104-A Whitten Building, 1400 Independence Ave., SW., Washington, DC. Individuals who wish to speak at the meeting or to propose agenda items must send their names and proposals by August 31, 2010 to Daina Apple, Designated Federal Officer, Forestry Research Advisory Council, USDA Forest Service Research and Development, 1400 Independence Ave., SW., Washington, DC 20250-1120, or fax their names and proposed agenda items to (202) 205-1530.

FOR FURTHER INFORMATION CONTACT: Daina Apple, Forest Service Office of the Deputy Chief for Research and Development, (202) 205-1665. Individuals who use telecommunication devices for the deaf (TDD) may call the Federal Information Relay Service (FIRS) at 1-800-877-8339 between 8 a.m. and 8 p.m., Eastern Standard Time, Monday through Friday.

SUPPLEMENTARY INFORMATION: The meeting is open to the public. Council discussion is limited to Forest Service, National Institute for Food and Agriculture staff and Council members. However, persons who wish to bring forestry research matters to the attention of the Council may file written statements with the Council staff before or after the meeting.

Dated: July 26, 2010.
Carlos Rodriguez-Franco,
Acting Deputy Chief for Research and Development.

[FR Doc. 2010-19142 Filed 8-3-10; 8:45 am]

BILLING CODE 3410-11-P